DEPARTMENT OF HEALTH AND HUMAN SERVICES

National Institutes of Health

Center for Scientific Review; Amended Notice of Meeting

Notice is hereby given of a change in the meeting of the Center for Scientific Review Special Emphasis Panel, October 25, 2013, 09:00 a.m. to October 25, 2013, 11:00 a.m., Renaissance Washington, DC, Dupont Circle, 1143 New Hampshire Avenue NW., Washington, DC 20037 which was published in the Federal Register on October 01, 2013, 78 FR 60297.

The meeting will be held on November 25, 2013 from 10:00 a.m. to 2:00 p.m. at the Embassy Suites, Chevy Chase Pavilion, 4300 Military Road NW., Washington, DC 20015. The meeting is closed to the public.

Dated: October 29, 2013.
Melanie J. Gray,
Program Analyst, Office of Federal Advisory Committee Policy.

[FR Doc. 2013-26160 Filed 11-1-13; 8:45 am]

BILLING CODE 4140-01-P